DEPARTMENT OF JUSTICE

Notice of Lodging of the Proposed Consent Decree Under the Oil Pollution Act

On December 9, 2014, the United States Department of Justice and the State of Iowa lodged a Proposed Consent Decree with the United States District Court for the Northern District of Iowa in United States v. Dakota, Minnesota, and Eastern Railroad Corporation, d/b/a Canadian Pacific, Civil Action No. 2:14-cv-01025-EJM.

This civil action asserts claims against Dakota, Minnesota, and Eastern Railroad Corporation, d/b/a Canadian Pacific (“Defendant”) pursuant to the Oil Pollution Act (“OPA”), 33 U.S.C. 2701, et seq., for damages for injury to natural resources, and the costs of assessment thereof, from the derailment of a Canadian Pacific train near Guttenberg, Iowa in 2008 and the resulting discharge of oil into the Mississippi River. To resolve the United States' and States' claims the Defendant will pay $625,000 and in return it will receive a covenant not to sue for natural resource damages.

The publication of this notice opens a period for public comment on the Consent Decree. Comments should be addressed to the Assistant Attorney General, Environment and Natural Resources Division, and should refer to United States v. Dakota, Minnesota, and Eastern Railroad Corporation, d/b/a Canadian Pacific, Civil Action No. 2:14-cv-01025-EJM, DOJ Reference Number 90-11-3-10260.

All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to: Consent Decree Library, U.S. DOJ—ENRD, P.O. Box 7611, Washington, DC 20044-7611.

Please enclose a check or money order for $6.50 (25 cents per page reproduction cost) payable to the United States Treasury.

Susan M. Akers,
Assistant Section Chief, Environmental Enforcement Section, Environment and Natural Resources Division.

[FR Doc. 2014-29399 Filed 12-15-14; 8:45 am]

BILLING CODE 4410-15-P